DEPARTMENT OF ENERGY

Federal Energy Regulatory Commission

Combined Notice of Filings #1

Take notice that the Commission received the following exempt wholesale generator filings:

Docket Numbers: EG20-62-000.

Applicants: RWE Renewables Americas, LLC.

Description: Self-Certification of Exempt Wholesale Generator Status of Cranell Wind Farm, LLC.

Filed Date: 1/3/20.

Accession Number: 20200103-5095.

Comments Due: 5 p.m. ET 1/24/20.

Take notice that the Commission received the following electric rate filings:

Docket Numbers: ER10-1910-018; ER10-1911-018.

Applicants: Duquesne Light Company, Duquesne Power, LLC.

Description: Triennial Market-Based Rate Update of the Duquesne MBR Sellers, et al.

Filed Date: 12/31/19.

Accession Number: 20191231-5326.

Comments Due: 5 p.m. ET 3/2/20.

Docket Numbers: ER10-2822-018; ER16-1250-010; ER10-2824-002; ER10-2825-003; ER10-2831-003; ER10-2957-003; ER10-2995-003; ER10-2996-002; ER10-2998-002; ER10-2999-002; ER10-3000-002; ER10-3029-002; ER10-1776-002; ER19-2360-001; ER10-3009-004; ER11-2196-010; ER17-1769-003; ER10-3013-003; ER10-3014-002; ER11-1243-002.

Applicants: Atlantic Renewables Projects II LLC, Avangrid Renewables, LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Montague Wind Power Facility, LLC, Pebble Springs Wind LLC, San Luis Solar LLC, Solar Star Oregon II, LLC, Star Point Wind Project LLC, Twin Buttes Wind LLC, Twin Buttes Wind II LLC.

Description: Updated Market Power Analysis for the Northwest Region of Avangrid Northwest MBR Sellers, et al.

Filed Date: 12/31/19.

Accession Number: 20191231-5316.

Comments Due: 5 p.m. ET 3/2/20.

Docket Numbers: ER20-391-002.

Applicants: J. Aron & Company LLC.

Description: Updated Market Power Analysis for the Northwest Region of J. Aron & Company LLC.

Filed Date: 12/30/19.

Accession Number: 20191230-5281.

Comments Due: 5 p.m. ET 2/28/20.

Docket Numbers: ER20-736-000.

Applicants: PJM Interconnection, L.L.C.

Description: § 205(d) Rate Filing: Revisions to Sch. 12-Appx A: December 2019 RTEP, 30-day Comments due to be effective 4/2/2020.

Filed Date: 1/3/20.

Accession Number: 20200103-5129.

Comments Due: 5 p.m. ET 2/3/20.

Docket Numbers: ER20-737-000.

Applicants: PJM Interconnection, L.L.C.

Description: § 205(d) Rate Filing: Original WMPA, SA No. 5545; Queue No. AE2-125 to be effective 12/11/2019.

Filed Date: 1/6/20.

Accession Number: 20200106-5002.

Comments Due: 5 p.m. ET 1/27/20.

Docket Numbers: ER20-738-000.

Applicants: PJM Interconnection, L.L.C.

Description: § 205(d) Rate Filing: Third Revised Service Agreement No. 2775; Queue No. AB2-092 to be effective 12/5/2019.

Filed Date: 1/6/20.

Accession Number: 20200106-5090.

Comments Due: 5 p.m. ET 1/27/20.

Docket Numbers: ER20-739-000.

Applicants: ISO New England Inc.

Description: § 205(d) Rate Filing: Cost Recovery Mechanism for Facilities Designated Critical to Derivation of IROL to be effective 3/6/2020.

Filed Date: 1/6/20.

Accession Number: 20200106-5127.

Comments Due: 5 p.m. ET 1/27/20.

Docket Numbers: ER20-740-000.

Applicants: Midcontinent Independent System Operator, Inc.

Description: § 205(d) Rate Filing: 2020-01-06_Consolidation and True Up Filing for CTA to be effective 2/2/2020.

Filed Date: 1/6/20.

Accession Number: 20200106-5128.

Comments Due: 5 p.m. ET 1/27/20.

Docket Numbers: ER20-741-000.

Applicants: Midcontinent Independent System Operator, Inc., Ameren Illinois Company.

Description: § 205(d) Rate Filing: 2020-01-06_SA 3224 Ameren Illinois-Bishop Hill FSA to be effective 3/7/2020.

Filed Date: 1/6/20.

Accession Number: 20200106-5133.

Comments Due: 5 p.m. ET 1/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2020.
Kimberly D. Bose,
Secretary.

[FR Doc. 2020-00223 Filed 1-9-20; 8:45 am]

BILLING CODE 6717-01-P